DEPARTMENT OF LABOR

Veterans' Employment and Training Service

Agency Information Collection Activities; Continued Collection; Comment Request: Vocational Rehabilitation and Employment (Chapter 31) Tracking Report (VETS 201) Extension Without Revisions.

AGENCY: Veterans' Employment and Training Service, U.S. Department of Labor.

ACTION: Notice.

SUMMARY: The Veterans' Employment and Training Service (VETS) is announcing an opportunity for the public to comment on the proposed collection of certain information by the agency. Under the Paperwork Reduction Act (PRA) of 1995, Federal agencies are required to publish notice in the Federal Register concerning each proposed collection of information and to allow 60 days for public comment in response to the notice. This notice solicits comments on one (1) collection of information: VETS 201 entitled “Vocational Rehabilitation and Employment (Chapter 31) Tracking Report” and identified by VETS ICR No. 1293-0009 and OMB Control No. 1293-0009. The information collection contained in this notice is an extension without revision. VETS is soliciting comments on the continuation of the approved information collections.

DATES: Submit written or electronic comments on the collection of information by May 4, 2015.

ADDRESSES: Submit comments on this collection of information by any of the following methods:

By mail to: Joel H. Delofsky, Office of National Programs, U.S. Department of Labor, VETS, 230 South Dearborn, Suite 1064, Chicago, Illinois 60604-1777.

Electronically to: delofsky.joel@dol.gov.

By fax to: (312) 353-4943 (not a toll free number).

All comments should be identified with the OMB Control Number 1293-0009. Written comments should be limited to 10 pages or fewer. Receipt of comments will not be acknowledged but the sender may request confirmation that a submission has been received by telephoning VETS at (312) 353-4942 or via fax at (312) 353-4943.

FOR FURTHER INFORMATION CONTACT: Joel H. Delofsky, Office of National Programs, U.S. Department of Labor, VETS, 230 South Dearborn, Suite 1064, Chicago, Illinois 60604-1777, by email at delofsky.joel@dol.gov or by phone at (312) 353-4942. Copies of the proposed data collection instruments can be obtained from the contact listed above.

SUPPLEMENTARY INFORMATION:

I. With respect to the continuation of the approved collection of information, VETS is particularly interested in comments on these topics:

(1) Whether the continued collection of information is necessary for the proper performance and oversight of the Jobs for Veterans State Grant, including whether the information will have practical utility;

(2) The accuracy of the VETS' estimate of the burden of the proposed collection of information;

(3) Ways to enhance the quality, utility, and clarity of the information to be collected; and

(4) Ways to minimize the burden of the collection of information on respondents, including through the use of automated collection techniques, when appropriate and other forms of information technology.

II. Comments are requested on the following ICR:

(1) Title: Vocational Rehabilitation and Employment (Chapter 31) Tracking Report (VETS 201)

ICR numbers: VETS ICR No. 1293-0009, OMB Control No. 1293-0009

ICR status: This ICR is for a continued information collection activity. An Agency may not conduct or sponsor, and a person is not required to respond to, a collection of information unless it displays a currently valid OMB control number. The OMB control numbers for VETS information collections are displayed on the applicable data collection instrument.

Abstract: VETS and the Department of Veterans Affairs Vocational Rehabilitation and Employment (VA VR&E) share a mutual responsibility for the successful readjustment of disabled veterans into the civilian workforce. Since August, 1995, the two Federal Agencies have worked together under a Memorandum of Understanding to cooperate and coordinate services provided to veterans and transitioning service members referred to or completing a program of vocational rehabilitation authorized under title 31, United States Code (hereinafter referred to as the Chapter 31 program).

To help Congress understand the extent to which federal agencies coordinate programs and the performance of this coordination, the Government Accountability Office (GAO) conducted a study and released Report Number GAO-13-29: Veterans' Employment and Training—Better Targeting, Coordinating, and Reporting Needed to Enhance Program Effectives. One of the findings encouraged the two agencies “to determine the extent to which veterans' employment outcomes result from program participation. . .”

As a result of the GAO recommendations, a Joint Work Group was directed to establish and standardize processes to ensure disabled veterans participating in the Chapter 31 program achieve the ultimate goal of successful career transition and suitable employment after the provision of Labor Market Information and employment services from the Jobs for Veterans State Grant recipients. The Joint Work Group refined processes and strengthened the team approach to serving these disabled veterans.

The Vocational Rehabilitation & Employment (Chapter 31) Tracking Report (VETS 201) is designed to respond to the GAO finding by compiling information on disabled veterans jointly served by the VA, VETS and Jobs for Veterans State Grant recipients. All partners agree to share information exclusively to facilitate job development and placement services for participating veterans. The information is collected only with documented consent from veterans in accordance with the Privacy Act of 1974 and other applicable regulations and each agency will provide practical and appropriate safeguards to protect Personally Identifiable Information in accordance with applicable regulations and laws, including the Americans with Disabilities Act of 1990, the Rehabilitation Act of 1973 and reauthorizations, and title VII of the Civil Rights Act of 1964.

The information is collected by the Jobs for Veterans State grant recipient and submitted to the state Director for Veterans' Employment and Training (DVET) once per Federal fiscal quarter. The results are shared between VETS and VA VR&E.

Estimated Annual Burden: VETS 201: 456 Hours.

Estimated Average Burden Per Respondent: VETS 201 (Proposed): 2 Hours, Range 1-3 Hours.

Frequency of Response: Quarterly.

Estimated Number of Respondents: VETS 201: 57.

Total Annualized Capital/startup costs: $0.

Total Initial Annual Costs: $0.

Comments submitted in response to this notice will be summarized and included in the agency's request for OMB approval of the information collection request. Comments will become a matter of public record.

Dated in Washington, DC, this 23rd day of February 2015.
Ralph Charlip,
Deputy Assistant Secretary.

[FR Doc. 2015-04357 Filed 3-2-15; 8:45 am]

BILLING CODE 4510-79-P